DEPARTMENT OF THE INTERIOR

Fish and Wildlife Service

FWS-R1-R-2011-N064; 10137-8555-11RG-8H]

Long Range Transportation Plan for Fish and Wildlife Service Lands in Hawai`i, Idaho, Northern Nevada, Oregon, Washington, and the Pacific Island Territories

AGENCY: Fish and Wildlife Service, Interior.

ACTION: Notice of availability; request for comments.

SUMMARY: We, the U.S. Fish and Wildlife Service (Service), announce the availability of the final draft Long Range Transportation Plan (LRTP) for Fish and Wildlife Service Lands in Hawai`i, Idaho, Northern Nevada, Oregon, Washington, and the Pacific Island Territories (the Service's Region 1) for public review and comment. The Draft LRTP outlines a strategy for improving and maintaining transportation assets that provide access to Service-managed lands in Region 1 over the next 20 years.

DATES: Please provide your comments by November 17, 2011.

ADDRESSES: The Draft LRTP is available on our Web site: http://www.fws.gov/pacific/planning/. We also have a limited number of printed and CD-ROM copies of the Draft LRTP. You may request a copy or submit comments by any of the following methods.

• E-mail: fw1LRTPComments@fws.gov.

• U.S. mail: Jeff Holm, Regional Transportation Coordinator, U.S. Fish and Wildlife Service, 911 NE 11th Avenue, Portland, OR 97232.

• Fax: Attn: Jeff Holm, (503) 231-2364.

• In-Person Drop-off: During regular business hours to Jeff Holm, Regional Transportation Coordinator, U.S. Fish and Wildlife Service, 911 NE 11th Avenue, Portland, OR 97232.

FOR FURTHER INFORMATION CONTACT: Jeff Holm, (503) 231-2126.

SUPPLEMENTARY INFORMATION:

Introduction

The Safe, Accountable, Flexible, Efficient, Transportation Equity Act: A Legacy for Users (SAFETEA-LU) of August 10, 2005, (Pub. L. 109-59) requires all Federal land management agencies to conduct long-range transportation planning in a manner that is consistent with metropolitan planning organizations and state departments of transportation planning. With this notice, we make the Draft LRTP for Region 1 available for public review and comment. We developed the Draft LRTP to achieve the following:

• Establish a defensible structure for transportation planning and decision-making.

• Establish a vision, mission, goals, and objectives for transportation planning.

• Implement coordinated and cooperative transportation partnerships in an effort to improve the Service's transportation infrastructure.

• Comply with SAFETEA-LU.

• Integrate transportation planning and funding for refuges and fish hatcheries into our existing and future management plans and strategies (e.g., comprehensive conservation plans and comprehensive hatchery management plans).

• Increase awareness of alternative transportation systems and associated benefits.

• Develop best management practices for transportation improvements on Service lands.

• Serve as a pilot project for the implementation of a regional transportation planning process within the Service.

Draft LRTP Mission, Goals, and Objectives

The Draft LRTP's mission, goals, and objectives are intended to provide a systematic approach to guide the process for evaluating and selecting transportation improvement projects for lands managed by Region 1. These guiding principles have shaped the development, conclusions, and recommendations of the Draft LRTP.

The mission of the LRTP is to support the Service's mission, by connecting people to fish, wildlife, and their habitats, through strategic implementation of transportation programs. The LRTP has six overall goals: (1) Protecting natural resources; (2) ensuring reliability and safety; (3) welcoming and orienting visitors; (4) integrating with larger Service planning; (5) developing and enhancing partnerships; and (6) adopting and promoting sustainability. Each goal includes distinct objectives that identify how the Service will accomplish each goal. The objectives for each goal follow.

Goal 1: Ensure That the Transportation Program Helps Conserve and Enhance Fish, Wildlife, and Plant Resources and Their Habitats

• Objective 1: Identify, research, and adopt best management practices for planning, design, construction, and maintenance of transportation activities and facilities that mitigate or avoid negative impacts.

• Objective 2: Reduce transportation-related conflicts within fish and wildlife corridors and habitat on or adjacent to Service lands.

Goal 2: Provide a Safe and Reliable Transportation Network to and Within Service Lands

• Objective 1: Identify and reduce safety problems and modal conflicts (i.e., between pedestrians, automobiles, horseback riders, off-road vehicles, maintenance vehicles, etc.) to and within Service lands.

• Objective 2: Ensure that mission-critical transportation assets are maintained in good condition.

Goal 3: Develop and Maintain a Transportation Network That Welcomes and Orients Visitors

• Objective 1: Provide information that enables visitors to easily find and navigate refuge and hatchery sites.

• Objective 2: Engage visitors in wildlife conservation and enhance their enjoyment of natural resources by providing compelling information about the National Wildlife Refuge System and Fisheries Program.

• Objective 3: Create a consistent and recognizable identity throughout Service units by using standard materials for readily observed physical elements associated with the transportation system.

Goal 4: Integrate Transportation Planning Into Service Plans and Processes

• Objective 1: Ensure consistency and coordination between the project, unit, and regional and national levels of planning.

• Objective 2: Define need for transportation improvements and prioritize projects using a scientific and objective process.

Goal 5: Develop Partnerships To Leverage Resources and Develop Integrated Transportation Solutions

• Objective 1: To the extent authorized by law, pursue opportunities for transportation funding and resources.

• Objective 2: Cooperate with public and private sector partners to address shared transportation issues that impact Service goals.

Goal 6: Adopt and Promote Sustainable Transportation Practices

• Objective 1: Address climate change and other environmental factors at all levels of transportation planning, design, project delivery, operations, and maintenance.

• Objective 2: Reduce the Service's carbon footprint by improving access to and within Service lands by transit and nonmotorized transportation modes, and providing improved visitor information systems.

• Objective 3: Reduce fossil fuel energy consumption by staff and visiting public.

Next Steps

After this comment period ends, we will analyze the comments and address them in the form of a final LRTP.

Public Availability of Comments

Before including your address, phone number, email address, or other personal identifying information in your comment, you should be aware that your entire comment—including your personal identifying information—may be made publicly available at any time. While you can ask us in your comment to withhold your personal identifying information from public review, we cannot guarantee that we will be able to do so.

Dated: September 19, 2011.
Richard R. Hannan,
Acting Regional Director, Region 1, Portland, Oregon.

[FR Doc. 2011-26916 Filed 10-17-11; 8:45 am]

BILLING CODE 4310-55-P